DEPARTMENT OF THE TREASURY

Office of Foreign Assets Control

Proposed Collection; Comment Request for Travel Service Provider and Carrier Service Provider Submission

AGENCY: Office of Foreign Assets Control, Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Pub. L. 104-13 (44 U.S.C. 3506(c)(2)(A)). Currently, the Office of Foreign Assets Control (“OFAC”) within the Department of the Treasury is soliciting comments concerning OFAC's Travel Service Provider and Carrier Service Provider information collection.

DATES: Written comments should be received on or before May 2, 2005 to be assured of consideration.

ADDRESSES: Direct all written comments to Merete Evans, Chief, Records Division, Office of Foreign Assets Control, Department of the Treasury, 1500 Pennsylvania Avenue, NW., Annex—2d Floor, Washington, DC 20220.

FOR FURTHER INFORMATION CONTACT: Requests for additional information about the filings or procedures should be directed to David W. Mills, Chief, Licensing Division, Office of Foreign Assets Control, Department of the Treasury, 1500 Pennsylvania Avenue, NW., 1500 Pennsylvania Avenue, Annex—2d Floor, Washington, DC 20220.

SUPPLEMENTARY INFORMATION: Title: Travel Service Provider and Carrier Service Provider Submission.

OMB Number: 1505-0168.

Abstract: The information is required of persons who have been authorized by the Office of Foreign Assets Control of the Department of the Treasury (“OFAC”) to handle travel arrangements to, from, and or within Cuba or to provide charter air service to Cuba. Travel service providers are required to collect information on persons traveling on direct flights to Cuba and forward that information to carrier service providers, for ultimate submission to OFAC.

Current Actions: There are no changes being made to the notice at this time.

Type of Review: Extension of a currently approved collection.

Affected Public: Individuals or households and businesses.

Estimated Number of Respondents: 228,000.

Estimated Time Per Respondent: 5 minutes per entry for travel service providers, or up to 570,000 minutes annually for travel service providers in the aggregate (9,500 hours); and up to 5 minutes per entry for carrier service providers, or up to 570,000 entries annually for carrier service providers in the aggregate (9,500 hours).

Estimated Total Annual Burden Hours: 19,000.

The following paragraph applies to all of the collections of information covered by this notice:

An agency may not conduct or sponsor, and a person is not required to respond to, a collection of information unless the collection of information displays a valid Office of Management and Budget (“OMB”) control number. Books or records relating to a collection of information must be retained for five years.

Request for Comments

Comments submitted in response to this notice will be summarized and/or included in the request for OMB approval. All comments will become a matter of public record. Comments are invited on: (a) Whether the collection of information is necessary for the proper performance of the functions of the agency, including whether the information has practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: February 23, 2005.
Robert W. Werner,
Director, Office of Foreign Assets Control.

[FR Doc. 05-4007 Filed 3-1-05; 8:45 am]

BILLING CODE 4810-25-M